DEPARTMENT OF AGRICULTURE

Forest Service

Notice of New Fee Site; Federal Lands Recreation Enhancement Act

AGENCY: Deschutes National Forest, Crescent Ranger District, Forest Service, USDA.

ACTION: Notice of new fee site—Crescent Lake Guard Station.

SUMMARY: The Deschutes National Forest is proposing to charge $120 fee for the overnight rental of Crescent Lake Guard Station. This cabin has not been available for recreation use prior to this date. Rentals of other guard stations and lookouts on the Deschutes National Forest have shown that people appreciate and enjoy the availability of historic rental cabins. Funds from the rental will be used for the continued operation and maintenance of Crescent Lake Guard Station. This fee is only proposed and will be determined upon further analysis and public comment. Crescent Lake Guard Station was built in the early 1930's as a one bedroom one bath cabin on the eastern shore of Crescent Lake in Klamath County, Oregon. It has been refurbished utilizing grant dollars and boasts a full kitchen, running water and gas heat. The guard station will comfortably sleep 1-4 people and has beautiful views of the Cascades.

DATES: Send any comments about this fee proposal by December 30, 2015 so comments can be compiled, analyzed and shared with a Recreation Resource Advisory Committee. Crescent Lake Guard Station is intended to become available for recreation rental July 2016.

ADDRESSES: John Allen, Forest Supervisor, Deschutes National Forest, 63095 Deschutes Market Road, Bend, OR 97701.

FOR FURTHER INFORMATION CONTACT: Robert Gentry, Recreation and Lands Team Leader, Crescent Ranger District, rgentry@fs.fed.us, 541-433-3205.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

The Deschutes National Forest currently has two other recreation rental opportunities. These rentals are often fully booked throughout their rental season. A market analysis indicates that the $120/per night fee is both reasonable and acceptable for this sort of unique recreation experience.

Once approved this rental opportunity will be available through the National Recreation Reservation Service, at www.recreation.gov, or by calling 1-877-444-6777. The National Recreation Reservation Service charges a $9 fee for reservations.

Dated: November 9, 2015.
A. Shane Jeffries,
Deschutes National Forest, Deputy Forest Supervisor.

[FR Doc. 2015-28925 Filed 11-18-15; 8:45 am]

BILLING CODE 3411-15-M